DEPARTMENT OF THE INTERIOR

Fish and Wildlife Service

50 CFR Part 11

[Docket No. FWS-HQ-LE-2016-0045; FF09L00200-FX-LE18110900000]

RIN 1018-BB32

Civil Penalties; Inflation Adjustments for Civil Monetary Penalties

AGENCY: Fish and Wildlife Service, Interior.

ACTION: Adoption of interim rule as final rule.

SUMMARY: The U.S. Fish and Wildlife Service (Service or we) is adopting, as a final rule, without change, an interim rule that revised our civil procedure regulations and increased civil monetary penalties for inflation.

DATES: Effective on December 23, 2016.

FOR FURTHER INFORMATION CONTACT: Paul Beiriger, Special Agent in Charge, Branch of Investigations, U.S. Fish and Wildlife Service, Office of Law Enforcement, (703) 358-1949.

SUPPLEMENTARY INFORMATION:

Background

The regulations at 50 CFR part 11 provide uniform rules and procedures for the assessment of civil penalties resulting from violations of certain laws and regulations enforced by the Service.

On June 28, 2016, the Service published in the Federal Register an interim rule (81 FR 41862) that amended 50 CFR part 11, in accordance with the Federal Civil Penalties Inflation Adjustment Act Improvements Act of 2015 (Inflation Adjustment Act; sec. 701 of Pub. L. 114-74) and Office of Management and Budget guidance, to adjust for inflation the statutory civil monetary penalties that may be assessed for violations of Service-administered statutes and their implementing regulations. We are required to adjust civil monetary penalties as necessary for inflation according to a formula specified in the Inflation Adjustment Act.

The interim rule became effective on July 28, 2016. We accepted public comments for 60 days on the interim rule, ending August 29, 2016. By that date, we did not receive any comments on the interim rule. Therefore, we are affirming the interim rule as a final rule, without change.

The interim rule is available at http://www.regulations.gov under Docket No. FWS-HQ-LE-2016-0045.

List of Subjects in 50 CFR Part 11

Administrative practice and procedure, Exports, Fish, Imports, Penalties, Plants, Transportation, Wildlife.

PART 11—CIVIL PROCEDURES

Accordingly, we are adopting as a final rule, without change, the interim rule amending 50 CFR part 11 that was published at 81 FR 41862 on June 28, 2016.

Dated: December 12, 2016.
Michael J. Bean,
Principal Deputy Assistant Secretary for Fish and Wildlife and Parks.

[FR Doc. 2016-31038 Filed 12-22-16; 8:45 am]

BILLING CODE 4333-15-P